DEPARTMENT OF TRANSPORTATION

Federal Aviation Administration

14 CFR Part 39

[Docket No. FAA-2012-0493; Directorate Identifier 2011-NM-180-AD]

RIN 2120-AA64

Airworthiness Directives; Airbus Airplanes

AGENCY: Federal Aviation Administration (FAA), DOT.

ACTION: Notice of proposed rulemaking (NPRM).

SUMMARY: We propose to supersede an existing airworthiness directive (AD) for all Airbus Model A318-111 and -112 airplanes; and all Model A319, A320, and A321 series airplanes. The existing AD currently requires revising the Airworthiness Limitations Section (ALS) of the Instructions for Continued Airworthiness to incorporate new limitations for fuel tank systems. Since we issued that AD, Airbus has issued more restrictive maintenance requirements and/or airworthiness limitations. This proposed AD would revise the maintenance program to incorporate revised fuel maintenance and inspection tasks, and add airplanes to the applicability. We are proposing this AD to prevent the potential of ignition sources inside fuel tanks, which, in combination with flammable fuel vapors, could result in a fuel tank explosion and consequent loss of the airplane.

DATES: We must receive comments on this proposed AD by July 16, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0493; Directorate Identifier 2011-NM-180-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 16, 2009, we issued AD 2007-15-06 R1, Amendment 39-16097 (74 FR 62219, November 27, 2009). That AD required actions intended to address an unsafe condition on the products listed above.

Since we issued AD 2007-15-06 R1, Amendment 39-16097 (74 FR 62219, November 27, 2009), Airbus has issued A318/A319/A320/A321 Fuel Airworthiness Limitations, Document 95A.1931/05, Issue 4, dated August 26, 2010. The European Aviation Safety Agency (EASA), which is the Technical Agent for the Member States of the European Community, has issued EASA Airworthiness Directive 2011-0155, dated August 25, 2011 (referred to after this as “the MCAI”), to correct an unsafe condition for the specified products. The MCAI states:

The airworthiness limitations are currently published in the Airbus A318/A319/A320/A321 Airworthiness Limitations Section (ALS).

The Fuel Airworthiness Limitations (FAL) are specified in Airbus A318/A319/A320/A321 FAL Document reference 95A.1931/05, which is approved by the European Aviation Safety Agency (EASA) and referenced in the Airbus A318/A319/A320/A321 ALS Part 5.

The issue 4 of Airbus A318/A319/A320/A321 FAL Document introduces more restrictive maintenance requirements and/or airworthiness limitations. Failure to comply with these more restrictive maintenance requirements and airworthiness limitations contained in this document constitutes an unsafe condition.

This [EASA] AD retains the requirement of EASA AD 2006-0203, which is superseded, and requires the implementation of the new or more restrictive maintenance requirements and/or airworthiness limitations as specified in Airbus A318/A319/A320/A321 FAL Document issue 4.

We are proposing this AD to prevent the potential of ignition sources inside fuel tanks, which, in combination with flammable fuel vapors, could result in a fuel tank explosion and consequent loss of the airplane. You may obtain further information by examining the MCAI in the AD docket.

Relevant Service Information

Airbus has issued A318/A319/A320/A321 Fuel Airworthiness Limitations, Document 95A.1931/05, Issue 4, dated August 26, 2010. The actions described in this service information are intended to correct the unsafe condition identified in the MCAI.

Explanation of Changes Made to This NPRM

We have changed Note 1 and Note 2 of the restated requirements of AD 2007-15-06 R1, Amendment 39-16097 (74 FR 62219, November 27, 2009), to lettered paragraphs (i) and (j), respectively, in this NPRM. These changes do not add any additional burden upon the public than was required in the existing AD.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 745 products of U.S. registry.

The actions that are required by AD 2007-15-06 R1, Amendment 39-16097 (74 FR 62219, November 27, 2009), and retained in this proposed AD take about 2 work-hours per product, at an average labor rate of $85 per work hour. Required parts cost about $0 per product. Based on these figures, the estimated cost of the currently required actions is $170 per product.

We estimate that it would take about 2 work-hours per product to comply with the new basic requirements of this proposed AD. The average labor rate is $85 per work-hour. Based on these figures, we estimate the cost of the proposed AD on U.S. operators to be $126,650, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act. We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-15-06 R1, Amendment 39-16097 (74 FR 62219, November 27, 2009), and adding the following new AD:

Airbus: Docket No. FAA-2012-0493; Directorate Identifier 2011-NM-180-AD.

(a) Comments Due Date

We must receive comments by July 16, 2012.

(b) Affected ADs

This AD supersedes AD 2007-15-06 R1, Amendment 39-16097 (74 FR 62219, November 27, 2009).

(c) Applicability

(1) This AD applies to Airbus Model A318-111, -112, -121, and -122 airplanes; Model A319-111, -112, -113, -114, -115, -131, -132, and -133 airplanes; Model A320-111, -211, -212, -214, -231, -232, and -233 airplanes; Model A321-111, -112, -131, -211, -212, -213, -231, and -232 airplanes; certificated in any category; all serial numbers.

(2) This AD requires revisions to certain operator maintenance documents to include new actions (e.g., inspections and/or Critical Design Configuration Control Limitations (CDCCLs). Compliance with these actions is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (l)(1) of this AD. The request should include a description of changes to the required actions that will ensure the continued operational safety of the airplane.

(d) Subject

Air Transport Association (ATA) of America Code 05, Periodic Inspections.

(e) Reason

This AD was prompted by Airbus issuing more restrictive maintenance requirements and/or airworthiness limitations. We are issuing this AD to prevent the potential of ignition sources inside fuel tanks, which, in combination with flammable fuel vapors, could result in a fuel tank explosion and consequent loss of the airplane.

(f) Compliance

You are responsible for having the actions required by this AD performed within the compliance times specified, unless the actions have already been done.

(g) Retained Revision of the Airworthiness Limitations Section (ALS) To Incorporate Fuel Maintenance and Inspection Tasks

This paragraph restates the requirements of paragraph (f) of AD 2007-15-06 R1, Amendment 39-16097 (74 FR 62219, November 27, 2009). For Model A318-111 and -112 airplanes, and Model A319, A320, and A321 airplanes: Within 3 months after August 28, 2007 (the effective date of AD 2007-15-06), revise the ALS of the Instructions for Continued Airworthiness to incorporate Airbus A318/A319/A320/A321 ALS Part 5—Fuel Airworthiness Limitations, dated February 28, 2006, as defined in Airbus A318/A319/A320/A321 Fuel Airworthiness Limitations, Document 95A.1931/05, Issue 1, dated December 19, 2005 (approved by the European Aviation Safety Agency (EASA) on March 14, 2006), Section 1, “Maintenance/Inspection Tasks;” or Airbus A318/A319/A320/A321 Fuel Airworthiness Limitations, Document 95A.1931/05, Issue 2, dated July 8, 2008 (approved by the EASA on December 19, 2008), Section 1, ”Maintenance/Inspection Tasks.” For all tasks identified in Section 1 of Airbus A318/A319/A320/A321 Fuel Airworthiness Limitations, Document 95A.1931/05, Issue 1, dated December 19, 2005; or Issue 2, dated July 8, 2008; the initial compliance times start from August 28, 2007, and the repetitive inspections must be accomplished thereafter at the intervals specified in Section 1, ”Maintenance/Inspection Tasks,” of Airbus A318/A319/A320/A321 Fuel Airworthiness Limitations, Document 95A.1931/05, Issue 1, dated December 19, 2005; or Issue 2, dated July 8, 2008.

Note 1 to paragraph (g) of this AD: Airbus Operator Information Telex (OIT) SE 999.0076/06, dated June 20, 2006, provides guidance on identifying the applicable sections of the Airbus A318/A319/A320/A321 Airplane Maintenance Manual necessary for accomplishing the tasks specified in Section 1 ”Maintenance/Inspection Tasks,” of Airbus A318/A319/A320/A321 Fuel Airworthiness Limitations, Document 95A.1931/05, Issue 1, dated December 19, 2005; or Issue 2, dated July 8, 2008.

(h) Retained Revision of the ALS To Incorporate CDCCLs

This paragraph restates the requirements of paragraph (g) of AD 2007-15-06 R1, Amendment 39-16097 (74 FR 62219, November 27, 2009). For Airbus Model A318-111 and -112 airplanes, and Model A319, A320, and A321 airplanes: Within 12 months after August 28, 2007 (the effective date of AD 2007-15-06), revise the ALS of the Instructions for Continued Airworthiness to incorporate Airbus A318/A319/A320/A321 ALS Part 5-Fuel Airworthiness Limitations, dated February 28, 2006, as defined in Airbus A318/A319/A320/A321 Fuel Airworthiness Limitations, Document 95A.1931/05, Issue 1, dated December 19, 2005 (approved by the EASA on March 14, 2006), Section 2, “Critical Design Configuration Control Limitations;” or Airbus A318/A319/A320/A321 Fuel Airworthiness Limitations, Document 95A.1931/05, Issue 2, dated July 8, 2008 (approved by EASA on December 19, 2008), Section 2, ”Critical Design Configuration Control Limitations.”

(i) Retained No Alternative Inspections, Inspection Intervals, or CDCCLs

(1) This paragraph restates the requirements of paragraph (h) of AD 2007-15-06 R1, Amendment 39-16097 (74 FR 62219, November 27, 2009). Except as provided by paragraph (l) of this AD: After accomplishing the actions specified in paragraphs (g) and (h) of this AD, no alternative inspections, inspection intervals, or CDCCLs may be used.

(2) Notwithstanding any other maintenance or operational requirements, components that have been identified as airworthy or installed on the affected airplanes before the revision of the ALS, as required by paragraphs (g) and (h) of this AD, do not need to be reworked in accordance with the CDCCLs. However, once the ALS has been revised, future maintenance actions on these components must be done in accordance with the CDCCLs.

(j) Revise Maintenance Program

Within 6 months after the effective date of this AD: Revise the maintenance program to incorporate the new or revised tasks, life limits, and CDCCLs specified in Airbus A318/A319/A320/A321 Fuel Airworthiness Limitations, Document 95A.1931/05, Issue 4, dated August 26, 2010, except as required in paragraph (j)(4) of this AD. The initial compliance times and intervals are stated in these documents, except as required in paragraphs (j)(1) through (j)(4) of this AD, or within 6 months after the effective date of this AD, whichever occurs later. For certain tasks, the compliance times depend on the pre-modification and post-modification status of the airplane. Incorporating the requirements of this paragraph terminates the corresponding requirements of paragraphs (g) and (h) of this AD.

(1) For airplanes whose first flight occurred before August 28, 2007 (the effective date of AD 2007-15-06 R1, Amendment 39-16097 (74 FR 62219, November 27, 2009)), the first accomplishment of tasks 281800-01-1, Functional Check of Tank Vapour Seal and Vent Drain System; and 281800-02-1, Detailed Inspection of Vapour Seal; must be performed no later than 11 months after the effective date of this AD.

(2) The first accomplishment of Tasks 470000-01-1, Operational Check of DFSOV, Dual Flapper Check Valves and NEA Line for Leaks; 470000-02-1, Operational Check of both Dual Flapper Check Valves for Leaks; 470000-03-1, Operational Check of Dual Flapper Check Valves for Reverse Flow and NEA Line for Leaks; 470000-04-1, Operational Check of Dual Flapper Check Valves for Reverse Flow; and 470000-05-1, Remove Air Separation Module (ASM) and Return to Vendor for Workshop Check; must be calculated, in accordance with paragraphs (j)(2)(i) or (j)(2)(ii) of this AD.

(i) From the airplane first flight for airplanes on which Airbus modification 38062 or 38195 has been embodied in production, or

(ii) From the in-service installation of the fuel tank inerting system specified in Airbus Service Bulletin A320-47-1001, Airbus Service Bulletin A320-47-1002, Airbus Service Bulletin A320-47-1003, Airbus Service Bulletin A320-47-1004, Airbus Service Bulletin A320-47-1006, or Airbus Service Bulletin A320-47-1007.

(3) Although Airbus A318/A319/A320/A321 Fuel Airworthiness Limitations, Document 95A.1931/05, Issue 4, dated August 26, 2010, does not refer to Airbus Service Bulletin A320-47-1006 and Airbus Service Bulletin A320-47-1007, the tasks apply as follows:

(i) Tasks 470000-01-1, Operational Check of DFSOV, Dual Flapper Check Valves and NEA Line for Leaks; and 470000-02-1, Operational Check of both Dual Flapper Check Valves for leaks; apply to airplanes that have previously accomplished the actions specified in Airbus Service Bulletin A320-47-1007.

(ii) Task 470000-03-1, Operational Check of Dual Flapper Check Valves for Reverse Flow and NEA Line for Leaks; applies to airplanes that have previously accomplished the actions specified in Airbus Service Bulletin A320-47-1006, and that have not accomplished the actions specified in Airbus Service Bulletin A320-47-1007.

(iii) Task 470000-04-1, Operational Check of Dual Flapper Check Valves for Reverse Flow; applies to airplanes in post-modification 38195 configuration and that have not accomplished the actions specified in Airbus Service Bulletin A320-47-1007.

(iv) Task 470000-05-1, Remove ASM and return to Vendor for workshop check; applies to airplanes that have previously accomplished the actions specified in Airbus Service Bulletin A320-47-1007, and are in pre-modification 151529 configuration.

(4) Replace each ASM identified in table 1 of this AD in accordance with a method approved by either the Manager, International Branch, ANM-116, Transport Airplane Directorate, FAA; or the European Aviation Safety Agency (EASA) (or its delegated agent). The compliance time for the replacement is before the accumulation of 27,000 flight hours (component time)—i.e., the life limitation.

Note 2 to paragraph (g)(4) of this AD: Airbus A318/A319/A320/A321 Maintenance Manual Task 47-10-43-920-001-A, Air Separation Module Replacement, is an additional source of guidance for accomplishment of the removal and replacement of the ASM.

Table 1—ASM Replacement
ASM Part No. | Affected airplane configuration
2060017-101 | Post-modification 38062, or
| Post-Airbus Service Bulletin A320-47-1002, or
| Post-Airbus Service Bulletin A320-47-1004, or
| Post-Airbus Service Bulletin A320-47-1007
2060017-102 | Post-modification 152033, or
| Post-Airbus Service Bulletin A320-47-1011

(k) No Alternative Actions Intervals, and/or CDCCLs

After accomplishing the revisions required by paragraph (j) of this AD, no alternative actions (e.g., inspections), intervals, and/or CDCCLs may be used other than those specified in Airbus A318/A319/A320/A321 ALS Part 5—Fuel Airworthiness Limitations, dated February 28, 2006, as defined in Airbus A318/A319/A320/A321 Fuel Airworthiness Limitations, Document 95A.1931/05, Issue 4, dated August 26, 2010, unless the actions, intervals, and/or CDCCLs are approved as an AMOC in accordance with the procedures specified in paragraph (l)(1) of this AD.

(l) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to MCAI EASA Airworthiness Directive 2011-0155, dated August 25, 2011, and the following service information, for related information.

(i) Airbus A318/A319/A320/A321 ALS Part 5—Fuel Airworthiness Limitations, dated February 28, 2006.

(ii) Airbus A318/A319/A320/A321 Fuel Airworthiness Limitations, Document 95A.1931/05, Issue 1, dated December 19, 2005.

(iii) A318/A319/A320/A321 Fuel Airworthiness Limitations, Document 95A.1931/05, Issue 2, dated July 8, 2008.

(iv) Airbus A318/A319/A320/A321 Fuel Airworthiness Limitations, Document 95A.1931/05, Issue 4, dated August 26, 2010.

(2) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, Washington. For information on the availability of this material at the FAA, call 425-227-1221.

Issued in Renton, Washington, on May 18, 2012.
Michael Kaszycki,
Acting Manager, Transport Airplane Directorate, Aircraft Certification Service.

[FR Doc. 2012-13191 Filed 5-30-12; 8:45 am]

BILLING CODE 4910-13-P